DEPARTMENT OF THE INTERIOR

Fish and Wildlife Service

[FWS-R6-R-2012-N024; FF06R06000-FXRS1265066CCP0S2-123]

Benton Lake National Wildlife Refuge Complex, Great Falls, MT; Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (Draft CCP/EA) for Benton Lake National Wildlife Refuge Complex for public review and comment. The Draft CCP/EA describes our proposal for managing the refuge complex for the next 15 years.

DATES: To ensure consideration, please send your written comments by May 18, 2012.

We will announce upcoming public meetings in local news media.

ADDRESSES: You may submit comments or requests for copies or more information by any of the following methods. You may request hard copies or a CD-ROM of the documents.

Email: toni_griffin@fws.gov. Include “Benton Lake Refuge Complex Draft CCP/EA” in the subject line of the message.

U.S. Mail: Toni Griffin, Planning Team Leader, Suite 300, 134 Union Boulevard, Lakewood, CO 80228.

Information Request: A copy of the Draft CCP/EA may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 (phone); 303-236-4792 (fax); or toni_griffin@fws.gov (email) or David C. Lucas, 303-236-4366 (phone): 303-236-4792 (fax): or david_c_lucas@fws.gov.

SUPPLEMENTARY INFORMATION:

Introduction

The 163,304-acre Benton Lake National Wildlife Refuge Complex (refuge complex) is part of the National Wildlife Refuge System and is located in northwest and north-central Montana. Spanning both sides of the Continental Divide, the refuge complex is a collection of diverse landscapes, from wetlands and mixed-grass prairie in the east to forests, intermountain grasslands, rivers, and lakes in the west. The refuge complex oversees management of 2 refuges, 1 wetland management district containing 22 waterfowl production areas, 3 conservation areas, and administers 216 easements within the Refuge System:

Benton Lake National Wildlife Refuge was established in 1929 and consists of 12,383 fee-title acres and 76.88 acres of right-of-way easement. It is located on the northern Great Plains, 50 miles east of the Rocky Mountains and 12 miles north of Great Falls, Montana.

Benton Lake Wetland Management District was established in 1975. It includes 10 counties (Cascade, Chouteau, Glacier, Hill, Lewis and Clark, Liberty, Pondera, Powell, Teton, Toole), 22 waterfowl production areas, and 4 distinct easement programs.

Blackfoot Valley Conservation Area (CA) was established in 1995 and expanded in 2011. This conservation easement program has the potential to protect up to 103,500 acres in the Blackfoot Valley by buying conservation easements on private land within the 824,024-acre project area.

Rocky Mountain Front CA was established in 2005 and expanded in 2011. This conservation easement program has the potential to protect up to 295,000 acres in the Rocky Mountain Front (Front) by buying conservation easements on private land within the 918,000-acre project area.

Swan River National Wildlife Refuge was established in 1973 and consists of 1,568.81 acres. It is located in the Swan Valley, 38 miles southeast of Creston, Montana.

Swan Valley CA was authorized in 2011. This conservation area has the potential to protect up to 10,000 acres in the Swan Valley by buying conservation easements on private land, and up to 1,000 acres in fee-title land next to the Swan River Refuge within the 187,400-acre project area.

Refuge complex lands and waters are important corridors for birds, fish, and other wildlife. Across the refuge complex, there exists a very high level of diversity. Wildlife ranges from migratory waterfowl to grassland birds, to native trout, to “charismatic mega fauna” such as elk, gray wolf, and grizzly bear. Refuge complex lands harbor Federal and State species of concern. Threatened and endangered species include bull trout, grizzly bear, Canada lynx, and water howellia. Candidate species include Sprague's pipit and wolverine. The refuge complex is of great value to waterfowl and shorebirds, as well as other migrating water-dependent bird species, because of the diversity of wetland and upland habitats that provide for the diverse life cycle needs of these species. The refuge complex has large, intact areas of native prairie that provide habitat for grassland birds that are one of the most imperiled groups of migratory birds nationwide.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

A Notice of Intent to prepare a CCP was published in the Federal Register August 18, 2008 (73, FR 48237). During scoping and throughout the process, we requested public comments and considered and incorporated them in numerous ways. Public outreach has included local news media announcements, a planning update, and several public scoping meetings. In addition, a biological workshop to discuss management issues and options related to water management, selenium contamination, and public use at the Benton Lake Refuge took place in Great Falls, Montana June 2011. Comments we received cover topics such as land protection, climate change, wetland health, water quality, hunting, wildlife observation, and environmental education. We have considered and evaluated all of these comments, with many incorporated into the various alternatives addressed in the Draft CCP and the EA.

CCP Alternatives We Are Considering

During the scoping process with which we started work on this Draft CCP, we, other governmental partners, and the public raised several issues. Our Draft CCP addresses these issues. The Draft CCP/EA includes the analyses of two different sets of alternatives. The first analysis includes three alternatives for managing the refuge complex. The second analysis includes five alternatives for addressing the declining condition of the Benton Lake Refuge wetlands. A full description of each analysis and the associated alternatives is in the EA. The alternatives are summarized below.

Alternatives for the Refuge Complex

Alternative A, Current Management (No Action). Management activity being conducted by the Service would remain the same. The Service would not develop any new management, restoration, or education programs at the refuge complex. Current habitat and wildlife practices benefiting migratory species and other wildlife would not be expanded or changed. Habitat management within the refuge complex has been focused on benefitting migratory birds, primarily waterfowl. Other species are considered through land protection programs and partnerships (for example, grizzly bear and bull trout). Staff would continue monitoring, inventory, and research activities at their current levels. Money and staff levels would remain the same with little change in overall trends. Programs would follow the same direction, emphasis, and intensity as they do at present.

Alternative B. Management efforts would be focused on maintaining the resiliency and sustainability of native grasslands, forests, shrublands, and unaltered wetlands throughout the refuge complex by emulating natural processes. Prescribed fire, grazing, and other management techniques would be used to replicate historical disturbance factors. Where feasible, restoration of native uplands would occur. For wetlands where water management capability exists, management efforts would be focused on achieving conditions that are more consistent by minimizing the effects of drought periods of the northern Great Plains and Rocky Mountains. Management would be active and intensive to keep these conditions in a consistent state for wildlife using tools such as artificial flooding, drawdowns, fire, rest, and grazing. Changes in the refuge complex's research and monitoring, staff, operations, and infrastructure would likely be required to achieve this alternative's goals and objectives. The success of these efforts and programs would depend on added staff, research, and monitoring programs, operations money, infrastructure, and new and expanded partnerships.

Alternative C, the Proposed Action. Emphasis would be placed on self-sustaining systems with ecological processes functioning for long-term productivity. Management efforts would focus on maintaining and restoring ecological processes including natural communities and the dynamics of the ecosystems of the northern Great Plains and northern Rocky Mountains. Conservation of native landscapes would be a high priority accomplished by protecting habitats from conversion using a combination of partnerships, easements and fee-title lands, and through active management and proactive enforcement of easements. Management actions such as prescribed fire, grazing, and invasive species control would be used to maintain the resiliency and sustainability of Service-owned lands throughout the refuge complex. Whenever possible, habitat conditions would be allowed fluctuate with climatically driven wet and dry cycles, which are essential for long-term productivity. The success of these efforts and programs would depend on added staff, research, and monitoring programs, operations money, infrastructure, and new and expanded partnerships.

Alternatives for Benton Lake National Wildlife Refuge

The Service and the public have identified declining wetland productivity and selenium contamination, and its effects on all aspects of management at the refuge, as one of the most critical situations needing to be addressed in the CCP planning process. To fully understand what is causing this decline, the Service met with consultants from Greenbrier Wetland Service in 2009 to understand what changes had occurred in the Benton Lake wetlands over time and how this might relate to the observed declines in productivity, increases in invasive species and increasing selenium contamination. In addition, the United States Geological Survey developed a water budget model based on more than 30 years of data and selenium model based on research conducted by USGS and the University of Montana on the refuge. These models, coupled with a hydro geomorphic assessment, were used to develop and analyze the management alternatives and to select one as the proposed action for the refuge.

The Service developed and analyzed five alternatives representing a full range of options to address the declining condition of the Benton Lake Refuge wetlands. The Service selected “Self-sustaining Systems through Adaptive Resource Management” as the Proposed Action. Under the Proposed Action, the Service will (1) start to address the selenium load, and (2) work throughout the watershed to reduce incoming selenium, and (3) monitor results and make necessary changes to pumping and water management infrastructure to achieve the long-term goal of a more natural process. The Service identified this alternative as the best option for addressing the declining condition of wetlands based on the effectiveness of treatment, environmental and social consequences, and cost.

Next Steps

After this comment period ends, we will analyze the comments we may issie a finding of no significant impact and final CCP, or if significant impacts are identified, the Service will prepare an environmental impact statement.

Public Availability of Comments

Before including your address, phone number, email address, or other personal identifying information in your comment, you should be aware that your entire comment—including your personal identifying information—may be made publicly available at any time. While you can ask us in your comment to withhold your personal identifying information from public review, we cannot guarantee that we will be able to do so.

Dated: February 29, 2012.
Matt Hogan
Acting Deputy Regional Director, Mountain-Prairie Region, U.S. Fish and Wildlife Service.

[FR Doc. 2012-7667 Filed 3-29-12; 8:45 am]

BILLING CODE 4310-55-P